DEPARTMENT OF ENERGY

Federal Energy Regulatory Commission

Combined Notice of Filings #1

Take notice that the Commission received the following electric corporate filings:

Docket Numbers: EC19-122-000.

Applicants: Union Electric Company, Outlaw Wind Project, LLC.

Description: Joint Application for Authorization Under Section 203 of the Federal Power Act, et al. of Union Electric Company, et al.

Filed Date: 8/19/19.

Accession Number: 20190819-5035.

Comments Due: 5 p.m. ET 9/9/19.

Docket Numbers: EC19-123-000.

Applicants: FirstEnergy Solutions Corp., FirstEnergy Generation, LLC, FirstEnergy Nuclear Generation, LLC, FirstEnergy Generation Mansfield Unit 1 Corp., Avenue Capital Management II, L.P.

Description: Application for Authorization Under Section 203 of the Federal Power Act, et al. of FirstEnergy Solutions Corp., et al.

Filed Date: 8/19/19.

Accession Number: 20190819-5111.

Comments Due: 5 p.m. ET 9/9/19.

Take notice that the Commission received the following electric rate filings:

Docket Numbers: ER10-2984-045.

Applicants: Merrill Lynch Commodities, Inc.

Description: Notice of Non-Material Change in Status of Merrill Lynch Commodities, Inc.

Filed Date: 8/16/19.

Accession Number: 20190816-5180.

Comments Due: 5 p.m. ET 9/6/19.

Docket Numbers: ER12-2225-009; ER14-2138-006; ER16-1354-005; ER10-1966-010; ER18-2003-003; ER17-822-004; ER17-823-004; ER18-241-003; ER14-2707-014; ER14-1630-008; ER16-1872-006; ER15-1375-006; ER15-2602-004; ER10-2720-019; ER11-4428-019; ER12-1880-018; ER18-2182-003; ER12-895-017; ER18-1535-003; ER14-21-006; ER11-4462-036; ER18-772-003; ER16-2443-003; ER17-1774-002; ER10-1970-015; ER11-4677-013; ER10-1972-015; ER17-838-011; ER10-1973-010; ER10-1951-015; ER10-1974-021; ER16-2241-007; ER10-1975-023; ER12-2444-012; ER10-1976-010; ER10-2641-034; ER16-2506-007; ER16-2297-007; ER14-2710-014; ER15-58-012; ER19-11-002; ER10-1985-010; ER18-2224-005; ER12-676-011; ER13-2461-010; ER17-196-003; ER18-807-003; ER18-1981-003; ER11-2192-014; ER16-1913-004; ER16-1440-008; ER16-2240-008; ER14-2708-015; ER14-2709-014; ER15-30-012; ER15-2243-004; ER15-1016-006; ER10-1989-012; ER19-774-003; ER13-2474-013; ER10-1991-015; ER17-2270-007; ER18-2091-002; ER12-1660-015; ER13-2458-010; ER11-4678-013; ER10-1994-011; ER17-582-004; ER10-2078-016; ER16-1293-005; ER16-1277-006; ER17-583-004; ER18-2032-003; ER10-1995-012; ER12-631-014.

Applicants: Limon Wind II, LLC, Limon Wind III, LLC, Live Oak Solar, LLC, Logan Wind Energy LLC, Lorenzo Wind, LLC, Luz Solar Partners Ltd., III, Luz Solar Partners Ltd., IV, Luz Solar Partners Ltd., V, Mammoth Plains Wind Project, LLC, Manuta Creek Solar, LLC, Marshall Solar, LLC, McCoy Solar, LLC, Meyersdale Storage, LLC, Minco Wind, LLC, Minco Wind II, LLC, Minco Wind III, LLC, Minco IV & V Interconnection, LLC, Minco Wind Interconnection Services, LLC, Montauk Energy Storage Center, LLC, Mountain View Solar, LLC, NEPM II, LLC, New Mexico Wind, LLC, NextEra Blythe Solar Energy Center, LLC, NextEra Energy Bluff Point, LLC, NextEra Energy Duane Arnold, LLC, NextEra Energy Montezuma II Wind, LLC, NextEra Energy Point Beach, LLC, NextEra Energy Marketing, LLC, NextEra Energy Seabrook, LLC, NextEra Energy Services Massachusetts, LLC, Northeast Energy Associates, A Limited Partnership, Ninnescah Wind Energy, LLC, North Jersey Energy Associates, A Limited Partnership, North Sky River Energy, LLC, Northern Colorado Wind Energy, LLC, Oleander Power Project, Limited Partnership, Oliver Wind III, LLC, Osborn Wind Energy, LLC, Palo Duro Wind Energy, LLC, Palo Duro Wind Interconnection Services, LLC, Peetz Logan Interconnect, LLC, Peetz Table Wind Energy, LLC, Pegasus Wind, LLC, Perrin Ranch Wind, LLC, Pheasant Run Wind, LLC, Pima Energy Storage System, LLC, Pinal Central Energy Center, LLC, Pratt Wind, LLC, Red Mesa Wind, LLC, River Bend Solar, LLC, Roswell Solar, LLC, Rush Springs Wind Energy, LLC, Seiling Wind, LLC, Seiling Wind II, LLC, Seiling Wind Interconnection Services, LLC, Silver State Solar Power South, LLC, Shafter Solar, LLC, Sky River LLC, Stanton Clean Energy, LLC, Steele Flats Wind Project, LLC, Story Wind, LLC, Stuttgart Solar, LLC, Titan Solar, LLC, Tuscola Bay Wind, LLC, Tuscola Wind II, LLC, Vasco Winds, LLC, Wessington Wind Energy Center, LLC, Westside Solar, LLC, White Oak Energy LLC, White Oak Solar, LLC, White Pine Solar, LLC, Whitney Point Solar, LLC, Wildcat Ranch Wind Project, LLC, Wilton Wind II, LLC, Windpower Partners 1993, LLC.

Description: Notice of Change in Status of the NextEra MBR Sellers (Part 2).

Filed Date: 8/15/19.

Accession Number: 20190815-5220.

Comments Due: 5 p.m. ET 9/5/19.

Docket Numbers: ER16-233-002.

Applicants: Midcontinent Independent System Operator, Inc.

Description: Midcontinent Independent System Operator, Inc. submits tariff filing per 35.19a(b): Refund Report_Illinois Power Resources Generating to be effective N/A.

Filed Date: 8/16/19.

Accession Number: 20190816-5190.

Comments Due: 5 p.m. ET 9/6/19.

Docket Numbers: ER19-2627-000.

Applicants: Southwest Power Pool, Inc.

Description: § 205(d) Rate Filing: 1628R16 Western Farmers Electric Cooperative NITSA NOA to be effective 8/1/2019.

Filed Date: 8/19/19.

Accession Number: 20190819-5028.

Comments Due: 5 p.m. ET 9/9/19.

Docket Numbers: ER19-2628-000.

Applicants: South Point Energy Center, LLC.

Description: § 205(d) Rate Filing: Certificate of Concurrence to Southwest Reserve Sharing Group Participation Agmt to be effective 6/1/2019.

Filed Date: 8/19/19.

Accession Number: 20190819-5079.

Comments Due: 5 p.m. ET 9/9/19.

Docket Numbers: ER19-2629-000.

Applicants: Fowler Ridge Wind Farm LLC.

Description: Compliance filing: Update Affiliate Waivers re Order in Docket Nos. ER11-2774, ER12-303 to be effective 8/20/2019.

Filed Date: 8/19/19.

Accession Number: 20190819-5082.

Comments Due: 5 p.m. ET 9/9/19.

Docket Numbers: ER19-2630-000.

Applicants: Dominion Energy Generation Marketing, Inc.

Description: Compliance filing: Compliance Filing—Affiliate Waiver Update (ER11-2774, ER12-303) to be effective 8/20/2019.

Filed Date: 8/19/19.

Accession Number: 20190819-5083.

Comments Due: 5 p.m. ET 9/9/19.

Docket Numbers: ER19-2631-000.

Applicants: Dominion Energy Nuclear Connecticut, Inc.

Description: Compliance filing: Compliance Filing—Affiliate Waiver Update to be effective 8/20/2019.

Filed Date: 8/19/19.

Accession Number: 20190819-5091.

Comments Due: 5 p.m. ET 9/9/19.

Docket Numbers: ER19-2632-000.

Applicants: Virginia Electric and Power Company.

Description: Compliance filing: Compliance Filing—2019 Affiliate Waivers to be effective 8/20/2019.

Filed Date: 8/19/19.

Accession Number: 20190819-5092.

Comments Due: 5 p.m. ET 9/9/19.

Docket Numbers: ER19-2633-000.

Applicants: Virginia Electric and Power Company.

Description: Compliance filing: Compliance Filing—2019 Affiliate Waivers to be effective 8/20/2019.

Filed Date: 8/19/19.

Accession Number: 20190819-5093.

Comments Due: 5 p.m. ET 9/9/19.

Docket Numbers: ER19-2634-000.

Applicants: Duke Energy Carolinas, LLC.

Description: § 205(d) Rate Filing: DEC-PMPA (RS No. 340) Amendment to PPA to be effective 1/1/2018.

Filed Date: 8/19/19.

Accession Number: 20190819-5095.

Comments Due: 5 p.m. ET 9/9/19.

Docket Numbers: ER19-2635-000.

Applicants: PJM Interconnection, L.L.C.

Description: § 205(d) Rate Filing: Amendment to ISA, SA No. 896; Queue Nos. D05 and K21 (amend) to be effective 7/13/2004.

Filed Date: 8/19/19.

Accession Number: 20190819-5107.

Comments Due: 5 p.m. ET 9/9/19.

Docket Numbers: ER19-2636-000.

Applicants: Northern Indiana Public Service Company.

Description: § 205(d) Rate Filing: Updated IA Agreement to be effective 12/27/2011.

Filed Date: 8/19/19.

Accession Number: 20190819-5110.

Comments Due: 5 p.m. ET 9/9/19.

Docket Numbers: ER19-2637-000.

Applicants: Dominion Energy South Carolina, Inc.

Description: Compliance filing: NMST Tariff (Extend Affiliate Restrictions Waiver) to be effective 8/20/2019.

Filed Date: 8/19/19.

Accession Number: 20190819-5131.

Comments Due: 5 p.m. ET 9/9/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2019.
Nathaniel J. Davis, Sr.,
Deputy Secretary.

[FR Doc. 2019-18271 Filed 8-23-19; 8:45 am]

BILLING CODE 6717-01-P